SMALL BUSINESS ADMINISTRATION

13 CFR Part 124

[Docket No.: SBA-2011-0013]

8(a) Business Development Program Regulation Changes; Tribal Consultation

AGENCY: U.S. Small Business Administration.

ACTION: Notice of tribal consultation meetings; request for comments.

SUMMARY: On February 11, 2011, the U.S. Small Business Administration (SBA or Agency) published a final rule in the Federal Register making changes to the regulations governing the section 8(a) Business Development (BD) program. SBA announces that it is holding tribal consultation meetings in Milwaukee, Wisconsin and Anchorage, Alaska to discuss the recent changes to the 8(a) BD program regulations, specifically to take comments on the mandatory reporting of community benefits provision scheduled to take effect on September 9, 2011, unless SBA further delays implementation through publication in the Federal Register. Testimony presented at these tribal consultation meetings will become part of the administrative record for SBA's consideration when the Agency deliberates on approaches to tracking community benefits.

DATES: Comments are requested on or before June 8, 2011.

The Tribal Consultation meetings will be held on Wednesday, June 15, 2011, from 1 p.m. to 4 p.m. at the National Congress of American Indian Mid Year Conference in the Hyatt Regency in Milwaukee, Wisconsin and on Thursday, June 23, 2011, from 1 p.m. to 4 p.m. at the National 8(a) Association Summer Conference in the Dena'ina Civic and Convention Center in Anchorage, Alaska 99501.

The tribal consultation meeting pre-registration deadline date is June 8, 2011 at 5 p.m. (Eastern Standard Time) for the Milwaukee location and June 16, 2011 at 5 p.m. (Eastern Standard Time) for the Anchorage location.

ADDRESSES: You may submit comments, identified by Docket Number SBA-2011-0013 using the following methods:

Federal eRulemaking Portal: http://www.regulations.gov. Identify comments by “Docket Number SBA-2011-0013, 8(a) Business Development program Regulation Changes; Tribal Consultation,″ and follow the instructions for submitting comments.

Mail: U.S. Small Business Administration, Office of Business Development, 490 3rd Street, SW., Washington, DC 20416.

SBA will post comments on http://www.regulations.gov. If you wish to submit confidential business information (CBI) as defined in the User Notice at http://www.regulations.gov, please submit information to Ms. LaTanya Wright, Senior Advisor for Office of Business Development, 490 3rd Street, SW., Washington, DC 20416. Highlight the information that you consider to be CBI, and explain why you believe this information should be held confidential. SBA will review the information and make the final determination of whether it will publish the information or not.

1. The Milwaukee Tribal Consultation meeting address is the Hyatt Regency, 333 West Kilbourn Avenue, Milwaukee, WI 53203.

2. The Anchorage Tribal Consultation address is the Dena'ina Civic and Convention Center, 600 W. 9th Avenue, Anchorage, AK 99501.

3. Send pre-registration requests to attend and/or testify to Ms. Chequita Carter, Office of Native American Affairs, U.S. Small Business Administration, 409 Third Street, SW., Washington, DC 20416; by email; chequita.carter@sba.gov or by facsimile to (202) 205-6139.

FOR FURTHER INFORMATION CONTACT: If you have questions on SBA's Final Rule for the 8(a) BD program, call or e-mail Ms. LaTanya Wright, Senior Advisor, Office of Business Development, at (202) 205-5852, or LaTanya.Wright@sba.gov. If you have questions about registering or attending the tribal consultation, please contact Ms. Chequita Carter at (202) 205-7364 or email chequita.carter@sba.gov.

SUPPLEMENTARY INFORMATION:

I. Background

On February 11, 2011 (76 FR 8222), SBA issued a Final Rule, publicly available at http://www.gpo.gov/fdsys/pkg/FR-2011-02-11/pdf/2011-2581.pdf. In that document, SBA made changes to the regulations governing the 8(a) BD program regulations, its small business size regulations, and regulations affecting Small Disadvantaged Businesses (SDBs). Some of the changes involve technical issues. Other changes are more substantive and result from SBA's experience in implementing 8(a) BD program regulations. One change is the addition of new reporting requirements for 8(a) Participants. Specifically, the final rule requires those 8(a) Participants owned by ANCs, tribes, NHOs, and CDCs to submit overall information relating to how 8(a) participation has benefited the tribal or native members and/or the tribal, native or other community as part of each Participant's annual review submissions, including information about funding cultural programs, employment assistance, jobs, scholarships, internships, subsistence activities, and other services to the affected community.

SBA received several comments recommending it delay implementation of any reporting of benefits requirement to allow affected firms to gather and synthesize this data. In addition, these commenters encouraged SBA to establish a task force, comprised of native leaders and SBA, to further study how this requirement could be best implemented without imposing an undue burden on tribes, ANCs, NHOs or CDCs, or on their affected 8(a) Participants. SBA agreed and delayed implementation of new § 124.604 for six months after the effective date for the other provisions of the final rule. These tribal consultations are for the purpose of developing best practices for collecting and utilizing the data. SBA expects that two Participants owned by the same tribe, ANC, NHO or CDC will submit identical data describing the benefits provided by the tribe, ANC, NHO or CDC.

II. Tribal Consultation Meetings

The purpose of these tribal consultation meetings is to conform to the requirements of Executive Order 13175, “Consultation and Coordination with Indian Tribal Governments″; to provide interested parties with an opportunity to discuss the 8(a) BD program regulatory changes; and for SBA to obtain the comments of SBA's stakeholders on approaches to tracking community benefits. In addition to general oral and written comments about 8(a) BD program provisions, SBA is requesting oral and written comments on approaches to tracking community benefits as required by the 8(a) BD program regulations. SBA considers tribal consultation meetings a valuable component of its deliberations and believes that these tribal consultation meetings will allow for constructive dialogue with the tribal community, Tribal Leaders, Elders and elected members of Alaska Native Villages or their appointed representatives.

The format of these tribal consultation meetings will consist of a panel of SBA representatives who will preside over the session. The oral and written testimony will become part of the administrative record for SBA's consideration. Written testimony may be submitted in lieu of oral testimony.

SBA requests that the comments address possible formats which the information should be transmitted to SBA and whether the data should be submitted at the time of the annual review (Participant's anniversary) or if another time in the year, such as the fiscal or calendar year, is better. In order to better report the data SBA is considering revisions to SBA Form 1450 for uniform reporting. One method SBA is considering is using a data list supported by a narrative format. The list would comprise of hard data and a narrative explaining the significance in benefits flowing to the community. SBA requests that commenters discuss the proposed methodology and offer any alternatives.

SBA will analyze the testimony, both oral and written, along with any written comments received. SBA officials may ask questions of a presenter to clarify or further explain the testimony. The purpose of the tribal consultation is to discuss changes to the new reporting requirements for 8(a) BD program Participants owned by tribes, ANCs, NHOs and CDCs with the tribal community, Tribal Leaders, Elders and elected members of Alaska Native Villages or their appointed representatives and to seek their comments on approaches to tracking community benefits. SBA requests that the comments focus on the new regulatory changes as stated in the Agency's Final Rule and commenters not raise issues pertaining to other SBA small business programs.

Presenters may provide a written copy of their testimony. SBA will accept written material that the presenter wishes to provide that further supplements his or her testimony. Electronic or digitized copies are encouraged.

The tribal consultation meetings will be held for half a day. The Milwaukee meeting will begin at 1 p.m. and end at 4 p.m. The Anchorage meeting will begin at 1 p.m. and end at 4 p.m. SBA will adjourn early if all those scheduled have delivered their testimony.

III. Registration

SBA respectfully requests that an elected or appointed representative of the tribal communities that are interested in attending please pre-register in advance and indicate whether you would like to testify at the hearing. Registration requests should be received by SBA by June 8, 2011 at 5 p.m. (Eastern Standard Time) for Milwaukee and June 16, 2011 at 5 p.m. (Eastern Standard Time) for Anchorage. Please contact Ms. Chequita Carter in SBA's Office of Native American Affairs in writing at Chequita.Carter@sba.gov or by facsimile at (202) 205-6139.

If you are interested in testifying, please include the following information relating to the person testifying: Name, Organization affiliation, Address, Telephone number, E-mail address and Fax number. SBA will attempt to accommodate all interested parties who wish to present testimony. Based on the number of registrants, it may be necessary to impose time limits to ensure that everyone who wishes to testify has the opportunity to do so. SBA will confirm in writing the registration of presenters and attendees.

IV. Information on Service for Individuals With Disabilities

For information on facilities or services for individuals with disabilities or to request special assistance at the tribal consultation meeting, contact Ms. Chequita Carter at the telephone number or e-mail address indicated under the FOR FURTHER INFORMATION CONTACT section of this notice.

Authority: 15 U.S.C. 632, 634(b) (6), 636(b), 637(a), 644 and 662 (5); Pub. L. 105-135, sec. 401 et seq., 111 Stat. 2592; and, E.O. 13175, 65 FR 67249.

Dated: May 6, 2011.
Clara Pratte,
National Director for the Office of Native American Affairs.

[FR Doc. 2011-11712 Filed 5-12-11; 8:45 am]

BILLING CODE 8025-01-P